NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee Meeting (#1173).

Date and Time: October 12, 2017; 10:00 a.m.-4:00 p.m.

Place: National Science Foundation, 2415 Eisenhower Avenue, Conference Room West 17000, Alexandria, VA 22314.

Note: CEOSE members will participate virtually. If you are interested in attending this meeting, you are required to attend in person.

To help facilitate your entry into the building, please contact Illinois Johnson (ijohnson@nsf.gov) on or prior to October 10, 2017.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the address above or the Web site at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• Presentations and Discussions

• NSF Executive Liaison Report

• Dissemination of the 2015-2016 Biennial Report to Congress

• Reports of CEOSE Liaisons to NSF Advisory Committees

• Updates from the Federal Agency Liaisons

• Plans for the 2017-2018 Biennial Report to Congress

• Announcements

Dated: September 12, 2017.
Crystal Robinson,
Committee Management Officer.

[FR Doc. 2017-19603 Filed 9-14-17; 8:45 am]

BILLING CODE 7555-01-P